DEPARTMENT OF HOMELAND SECURITY

Federal Emergency Management Agency

[Docket ID FEMA-2024-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of May 22, 2024 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Deputy Assistant Administrator for Risk Management, Federal Emergency Management Agency, Department of Homeland Security.

Community | Community map repository address
Shasta County, California and Incorporated Areas
Docket No.: FEMA-B-2322
City of Redding | Permit Center, 777 Cypress Avenue, 1st Floor, Redding, CA 96001.
Unincorporated Areas of Shasta County | Shasta County Department of Public Works, 1855 Placer Street, Redding, CA 96001.
Linn County, Iowa and Incorporated Areas
Docket No.: FEMA-B-2279
City of Cedar Rapids | City Services Center, 500 15th Avenue Southwest, Cedar Rapids, IA 52404.
City of Center Point | City Hall, 200 Franklin Street, Center Point, IA 52213.
City of Marion | City Hall, 1225 6th Avenue, Suite 200, Marion, IA 52302.
City of Palo | City Hall, 2800 Hollenbeck Road, Palo, IA 52324.
Unincorporated Areas of Linn County | Linn County Planning and Development Department, 935 2nd Street Southwest, Cedar Rapids, IA 52404.
Kingsbury County, South Dakota and Incorporated Areas
Docket No.: FEMA-B-2292
City of De Smet | City Hall, 106 Calumet Avenue SE, De Smet, SD 57231.
City of Iroquois | City Hall, 320 East Washita Street, Iroquois, SD 57353.
Unincorporated Areas of Kingsbury County | Kingsbury County Courthouse, 202 2nd Street SE, De Smet, SD 57231.
Cumberland County, Virginia and Incorporated Areas
Docket No.: FEMA-B-2300
Unincorporated Areas of Cumberland County | Cumberland County Courthouse, Building Inspector's Office, 1 Courthouse Circle, Cumberland, VA 23040.
Skamania County, Washington and Incorporated Areas
Docket No.: FEMA-B-2215
City of North Bonneville | City Hall, 214 CBD Mall Drive, North Bonneville, WA 98639.
City of Stevenson | City Hall, 7121 East Loop Road, Stevenson, WA 98648.
Unincorporated Areas of Skamania County | Skamania County Courthouse Annex, 170 Northwest Vancouver Avenue, Stevenson, WA 98648.

[FR Doc. 2024-00477 Filed 1-10-24; 8:45 am]

BILLING CODE P